DEPARTMENT OF THE INTERIOR

National Park Service

National Register of Historic Places; Notification of Pending Nominations and Related Actions

Nominations for the following properties being considered for listing or related actions in the National Register were received by the National Park Service before March 26, 2005. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by May 5, 2005.

Carol D. Shull,
Keeper of the National Register of Historic Places.

District of Columbia

District of Columbia

Rock Creek and Potomac Parkway Historic District, (Parkways of the National Capital Region MPS) Rock Creek and Potomac Parkway, Washington, 05000367

Florida

Volusia County

Tarragona Tower, Tarragona Way and International Speedway Blvd., Daytona Beach, 05000368

Louisiana

East Feliciana Parish

Bank of Slaughter, 3323 Church St., Slaughter, 05000369

Missouri

Jackson County

Hiland Telephone Exchange Building, 1020 E. 63rd St., Kansas City, 05000373

Woolworth, F.W., Building, 3120-3122 Troost Ave., Kansas City, 05000372

St. Louis County

Hi-Pointe—De Mun Historic District, Roughly bounded by S. Skinker Blvd., Clayton Rd., Seminary Place, De Mun Ave., and Northwood Ave., Clayton, 05000370

St. Louis Independent City

Lindenwood School, 2815 McCausland Ave., St. Louis (Independent City), 05000371

New Jersey

Union County

Baltusrol Golf Club, 201 Shunpike Rd., Springfield, 05000374

North Carolina

Buncombe County

Smith, Whitford G., House, 263 Haywood St., Asheville, 05000375

Carteret County

Salter—Battle Hunting and Fishing Lodge, Sheep Island, Ocracoke, 05000381

Cumberland County

Capitol, The, 126 Hay St., Fayetteville, 05000376

Greene County

Zachariah School, NC 1239, 0.6 mi. S o NC 1244, Wooten's Crossroads, 05000377

Guilford County

Wilson, Lucy and J. Vassie, House, 425 Hillcrest Dr., High Point, 05000378

Johnston County

Moore, Walter R. and Eliza Smith, House, 3919 Raleigh Rd., Clayton, 05000379

Ohio

Cuyahoga County

Rockefeller Park and Cleveland Cultural Gardens Historic District, Roughly bounded by Mt. Sinai Rd., East Boulevard, Conrail Tracks, and Ansel Rd., Cleveland, 05000382

Oregon

Deschutes County

Drake Park Neighborhood Historic District, Roughly bounded by Broadway St., Riverside Blvd., Turnalo Ave., Franklin Ave., Bend, 05000380

Texas

Fannin County

Rayburn, Sam, Library and Museum, 800 W. Sam Rayburn Dr., Bonham, 05000386

Gillespie County

Cherry Spring School, 5973 RM 2323, Fredericksburg, 05000389

Crabapple School, 14671 Lower Crabapple Rd., Fredericksburg, 05000390

Lower South Grape Creek School, 10273 E U.S. 290, Fredericksburg, 05000391

Luckenbach School, 3566 Luckenbach Rd., Fredericksburg, 05000392

Meusebach Creek School, 515 Kuhlmann Rd., Fredericksburg, 05000393

Nebgen School, 1718 N. Grape Creek Rd., Fredericksburg, 05000394

Rheingold School, 334 Rheingold School Rd., Fredericksburg, 05000388

Williams Creek School, 5501 South RM 1623, Stonewall, 05000384

Willow City School, 2501 RM 1323, Willow City, 05000385

Texas

Harris County

Macatee, Leonard W., House, 1220 Southmore Blvd., Houston, 05000387

Upshur County

O'Bryne, John and Eva, House, FM 1844, 0.7 mi. E of U.S. 271, Union Grove, 05000383

Virginia

Fauquier County

Remington Historic District, Area including Bowen St., N. Church St., N. Franklin St., N. John Stone St., Main St., S. Mill St. Sumerduck Rd. Tinpot, Remington, 05000395

West Virginia

Greenbrier County

Organ Cave, WV 63, 0.5 mi of jct. U.S. 219, Ronceverte, 05000397

Ronceverte Historic District, Roughly along Main St., Pochantas, Monroe, and Greenbrier, Ronceverte, 05000396

Hampshire County

District Parsonage, Old, 351 N. Hight St., Romney, 05000398

McDowell County

Ashland Company Store, (Coal Company Stores in McDowell County MPS) WV 17, Ashland, 05000399

Mercer County

Bramwell Additions Historic District (Boundary Increase), Parts of Bluestone Ave., Clifton St., Renova St., Simmons Ave., Simmons St. and Spring St., Bramwell, 05000400

[FR Doc. 05-7837 Filed 4-19-05; 8:45 am]

BILLING CODE 4312-51-P